DEPARTMENT OF AGRICULTURE

Rural Business-Cooperative Service

[Docket No. RBS-22-BUSINESS-0009; OMB Control No.: 0570-0021]

60-Day Notice of Proposed Information Collection: Intermediary Relending Program

AGENCY: Rural Business Cooperative Service, USDA.

ACTION: Notice; request for comments.

SUMMARY: In accordance with the Paperwork Reduction Act of 1995, the United States Department of Agriculture (USDA) Rural Business-Cooperative Service announces its' intention to request an extension of a currently approved information collection and invites comments on this information collection.

DATES: Comments on this notice must be received by August 23, 2022.

ADDRESSES: Comments may be submitted by the Federal eRulemaking Portal: Go to http://www.regulations.gov and, in the lower “Search Regulations and Federal Actions” box, select “Rural Business-Cooperative Service” from the agency drop-down menu, then click on “Submit.” In the Docket ID column, select RBS-22-BUSINESS-0009 to submit or view public comments and to view supporting and related materials available electronically. Information on using Regulations.gov, including instructions for accessing documents, submitting comments, and viewing the docket after the close of the comment period, is available through the site's “User Tips” link.

FOR FURTHER INFORMATION CONTACT: Robin M. Jones, Management Analyst, Rural Development Innovation Center—Regulations Management Division, United States Department of Agriculture, 1400 Independence Avenue SW, South Building, Washington, DC 20250-1522. Telephone: (202) 772-1172. Email: robin.m.jones@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that Rural Business-Cooperative Service is submitting to OMB as extension to an existing collection with Agency adjustment.

Title: Intermediary Relending Program.

OMB Control Number: 0570-0021.

Expiration Date of Approval: November 30, 2022.

Type of Request: Extension of a currently approved information collection.

Estimate of Burden: Public reporting burden for this collection of information is estimated to average 7.5 hours per response.

Respondents: Non-profit corporation, public agencies, Indian tribes and cooperatives.

Estimated Number of Respondents: 140.

Estimated Number of Responses per Respondent: 13.

Estimated Number of Responses: 1,224.

Estimated Total Annual Burden on Respondents: 11,790 hours.

Abstract: The Rural Business-Cooperative Service's Intermediary Relending Program regulations contain various requirements for information from the intermediaries, and some requirements may cause the intermediary to seek information from ultimate recipients. The information requested is necessary for RBS to be able to process applications in a responsible manner, make prudent credit and program decisions, and effectively monitor the intermediaries' activities to protect the Government's financial interest and ensure that funds obtained from the Government are used appropriately. It includes information to identify the intermediary; describe the intermediary's experience and expertise; describe how the intermediary will operate its revolving loan fund; provide for debt instruments, loan agreements, and security; and other material necessary for prudent credit decisions and reasonable program monitoring.

Comments are invited on:

(a) Whether the collection of information is necessary for the proper performance of the functions of the agency, including whether the information will have practical utility;

(b) the accuracy of the agency's estimate of the burden of the collection of information including the validity of the methodology and assumptions used;

(c) ways to enhance the quality, utility, and clarity of the information to be collected; and

(d) ways to minimize the burden of the collection of information on respondents, including through the use of appropriate automated, electronic, mechanical, or other technological collection techniques or other forms of information technology.

Copies of this information collection can be obtained from Robin M. Jones, Rural Development Innovation Center—Regulations Management Division, at (202) 772-1172. Email: robin.m.jones@usda.gov.

All responses to this notice will be summarized and included in the request for OMB approval. All comments will also become a matter of public record.

Karama Neal,
Administrator, Rural Business-Cooperative Service.

[FR Doc. 2022-13548 Filed 6-23-22; 8:45 am]

BILLING CODE 3410-XY-P